DEPARTMENT OF ENERGY

Initial H-Prize Competition for Breakthrough Advances in Materials for Hydrogen Storage

AGENCY: Office of Energy Efficiency and Renewable Energy, Department of Energy (DOE).

ACTION: Notice of Initial H-Prize Competition for Breakthrough Advances in Materials for Hydrogen Storage (“H-Prize Competition”).

SUMMARY: As authorized in Section 654 of the Energy Independence and Security Act of 2007, DOE is announcing the Initial H-Prize Competition which will be a single award for $1 million in the subject area of advanced materials for hydrogen storage—a critical challenge to enable widespread commercialization of hydrogen and fuel cell technologies. Evaluation of entries will begin approximately 15 months after the date this announcement appears in the Federal Register (FR). A single prize of $1 million will be awarded, unless no entries are significant enough to merit an award. The essential elements of the H-Prize Competition are included in this announcement; further updates and answers to questions asked by participants will be available on a public Web site, http://hydrogenprize.org, and through future FR notices as required. We encourage prospective participants to visit the Web site, as it will be updated periodically.

DATES:

• February 15, 2010: Deadline for Registration and Eligibility Documentation.

• November 15, 2010: Deadline for submittal of material samples for testing.

• Dec 2010/Jan 2011: Sample testing by an independent third party laboratory.

• Dec 2010/Jan 2011: Panel of Judges reviews and evaluates the independent third party testing data.

• February 2011: Award of $1 million prize, if the Panel of Judges determines that there is a winning entry.

ADDRESSES: Questions may be submitted through http://hydrogenprize.org.

FOR FURTHER INFORMATION CONTACT: Technical Information: Dr. Ned Stetson, Technology Development Manager, Office of Hydrogen, Fuel Cells and Infrastructure Technologies; EE-2H; 1000 Independence Ave., SE., Washington, DC 20585; (202) 586-9995. More information on DOE's hydrogen storage program, targets and current research information can be found at http://www1.eere.energy.gov/hydrogenandfuelcells/storage/.

Prize contest: Jeffrey Serfass, Project Director, Hydrogen Education Foundation, 1211 Connecticut Ave., NW.; Suite 600; Washington, DC 20036-2701; (202) 223-5547. The HEF H-Prize Web site is http://hydrogenprize.org.

SUPPLEMENTARY INFORMATION:

Background: The H-Prize is authorized by Section 654 of the Energy Independence and Security Act of 2007, Public Law 110-140, as an amendment to Sec. 1008 of the Energy Policy Act of 2005, Public Law 109-58. Under Section 654, the Secretary of Energy is authorized to carry out a program to competitively award cash prizes to advance the research, development, demonstration and commercial application of hydrogen energy technologies. The purpose is to accelerate the development of hydrogen and fuel cell technologies by offering prizes to motivate and reward outstanding scientific and engineering advancements. The mobilization of private funding, in concert with a core of Federal and other public funding, is at the heart of the H-Prize concept. This broadens the base of investment in incentivizing notable scientific and engineering breakthroughs, while elevating their significance with the public, and builds on DOE's steady achievements in research, development and demonstration. The H-Prize is administered by the Hydrogen Education Foundation (HEF) for the Department of Energy.

DOE is developing hydrogen and fuel cell technologies for multiple applications, including the transportation sector where the largest benefits in reductions in greenhouse gas emissions and oil use are likely. Hydrogen storage is one of the challenging critical barriers to the widespread market penetration of hydrogen-fueled vehicles. Techniques and materials are needed to store hydrogen on-board a vehicle while meeting consumer expectations for driving range, performance, and refueling time without compromising safety or payload.

I. Subject of the Competition

The initial H-Prize is to be awarded for demonstrated advancements in developing an on-board hydrogen storage material for light-duty vehicles that meets or exceeds a specified set of verifiable performance targets (http://hydrogenprize.org) as ascertained by an independent Panel of Judges to be selected by DOE in consultation with HEF. Note that the H-Prize is for a material only, not a complete on-board system.

II. Duration of the Competition

The H-Prize Competition begins with this Notice and is anticipated to end in approximately February 2011, when the Panel of Judges determines whether there is a winning entry. (See also, “Key Dates” section of this Notice).

III. Eligibility

This H-Prize Competition is open to participants, defined as individuals, entities or teams, that meet the following requirements:

1. Comply with all Registration and H-Prize Competition Rules and Requirements;

2. In the case of an entity: be organized or incorporated in the United States, and maintain for the duration of the H-Prize Competition a primary place of business in the United States;

3. In the case of all individuals (whether participating singly or as part of an entity or team): be a citizen of, or an alien lawfully admitted for permanent residence into, the United States as of the date of Registration in the H-Prize Competition and maintain that status for the duration of the H-Prize Competition;

4. In the case of U.S. Citizens: provide proof of U.S. Citizenship with Registration, as follows:

a. Notarized copy of U.S. Passport, or

b. Notarized copies of both a current U.S. driver's license issued from one of the 50 States or a U.S. Territory and a birth certificate;

5. In the case of aliens lawfully admitted for permanent residence in the United States: Provide notarized copy of Permanent Resident Card (Form 1-551) (green card) with Registration;

6. In the case of entities: Provide a copy of the entity formation documentation (e.g. Articles of Incorporation) showing the place of formation, as well as a self-certification of the primary place of business;

7. The participant, or any member of a participant, shall not be a Federal entity, a Federal employee acting within the scope of his or her employment, or an employee of a National Laboratory acting within the scope of his or her employment;

8. The participant, or any member of a participant, cannot have received Federal funding for research and development of hydrogen storage materials since October 2008;

9. Provide a statement attesting to the participant's use of government funding as part of the Registration documentation;

10. Sign a waiver of claims against the Federal Government and the HEF. See 42 U.S.C. 16396(f)(5)(A);

11. Obtain liability insurance, or satisfactorily demonstrate financial responsibility pursuant to 42 U.S.C. 16396(f)(5)(B)(i);

12. Name the Federal Government as an additional insured under the Registered participants' insurance policy and agree to indemnify the Federal Government against third party claims pursuant to 42 U.S.C. 16396(f)(5)(B)(ii);

13. Teams and Entities:

a. Teams may be comprised of any combination of individuals or entities;

b. Each team or entity will designate a team leader who will be the sole point of contact with H-Prize Competition officials;

c. Team or entity members will be identified at the time of Registration on the team roster. Team members may be on only one team roster;

d. Changes to team rosters will be allowed up to 72 hours prior to the award presentation, provided citizenship and immigration requirements are met;

14. The winner must be present at the award presentation in order to win the H-Prize. If a team or entity is the winner, only the team leader must be present;

15. An individual cannot participate on more than one team or compete with multiple entries; and

16. Participants cannot be on more than one team or compete with multiple entries.

IV. Registration Process, Competition Schedule, Amount of Prize and Intellectual Property

Registration process. Registration, along with all required eligibility documentation, must be completed through the Web site http://hydrogenprize.org no later than February 15, 2010.

H-Prize competition schedule. After announcement in the Federal Register, prospective participants have until February 15, 2010, to register and certify their teams or individuals. Once registered, they will receive all notices and rules updates, including answers to questions asked by the participants. The public Web site, http://hydrogenprize.org, will also post this same information, including publicity about various teams and sponsors. We encourage participants to utilize the Web site as a means of highlighting any information they would like to convey to the public or potential sponsors. There are no entry fees.

At the end of 15 months, on or about November 15, 2010, participants will be required to submit their samples for testing by a designated independent laboratory. The location, shipping instructions and testing procedures will be posted on the Web site and sent electronically to the designated contact person for each participant.

Testing and evaluations are planned to be completed in January 2011, and the winner, if any, named by the Panel of Judges in February 2011.

Amount of the prize. Will be $1 million.

Intellectual property. Intellectual property rights developed by the participant for H-Prize technology are set forth in Section 654 of Public Law 110-140. No parties managing the contest, including the U.S. Government, their testing laboratories, judges or H-Prize administrators will claim rights to the intellectual property derived by a registered participant as a consequence of, or in direct relation to, their participation in this H-Prize Competition. The Government and the participant may negotiate a license for the Government to use the intellectual property developed by the participant.

V. Criteria for Awarding the Prize

Technical Evaluation Criteria for Hydrogen Storage Materials

Breakthrough materials that meet the following material-level criteria:

• Goal is for a material that has the potential to be an on-board rechargeable hydrogen storage material.

• Gravimetric capacity of greater than 7.5 weight percent releasable hydrogen:

○ Reversible H2 capacity between −40 to +85 degrees C, and between 1.5 to 150 bar H2 pressure.

• Volumetric capacity of greater than 70 g/liter total releasable hydrogen:

○ i.e., total volume of H2 ab/adsorbed by the solid plus the pressurized hydrogen contained within the pore spaces all divided by the total sample volume including the material's skeletal volume.

• Charging kinetics: greater than or equal to 4×10⁻⁴ (i.e. 0.0004) grams of hydrogen per gram of material per second:

○ Charging kinetics are to be measured with an inlet hydrogen gas temperature of between −40 to +85 degrees C and an inlet hydrogen pressure of not greater than 150 bar.

• Discharge kinetics: greater than or equal to 2×10⁻⁵ (i.e. 0.00002) grams of hydrogen per gram of material per second:

○ Discharge kinetics are to be measured at a sample temperature between −40 to + 85 degrees C and with an outlet hydrogen pressure of greater than or equal to 1.5 bar.

• Cycle life: 100 cycles:

○ At completion of 100 charge/discharge cycles from less than 5% to greater than 95% of reversible capacity, the sample's reversible capacity must still be greater than or equal to 95% of the gravimetric capacity target (i.e. ≥ 0.95 times 7.5 wt.% or ≥ 7.1 wt.%).

Final test results and award qualifications. Performance data must be submitted on an entered material demonstrating the principal requirements from above, based on data obtained by an independent laboratory. The participant must provide at least a 10 gram sample of the material(s) for independent verification of the above criteria by a laboratory specified by the Panel of Judges in consultation with DOE. The Panel of Judges will evaluate the test results and determine if there is a winner and honorable mentions. An award will be made only if all the technical evaluation criteria are met or exceeded. In the case of multiple entries exceeding all of the performance criteria in the final test results, the entry with the highest gravimetric capacity will be the winner. In the case that two or more entries have the same highest gravimetric capacity, then the entry with the highest result for the above cycle life test will be declared the winner. Further details are provided on the criteria, scoring and rules in the H-Prize Rules and Requirements document at http://hydrogenprize.org.

VI. Cancellation and Team Disqualification

A participant may be disqualified for the following reasons:

• At the request of the registered participant or team leader;

• Failure to meet or maintain eligibility requirements (note that at the time of the prize award, if it is determined that a participant has not met or maintained all eligibility requirements, they shall be disqualified without regard to H-Prize Competition performance);

• Failure to comply with H-Prize Rules and Requirements;

• Failure to submit required documents or materials on time;

• Fraudulent acts, statements or misrepresentations involving any H-Prize participation or documentation; or,

• Violation of any Federal, State or local law or regulation inconsistent with the H-Prize Competition.

Cancellation. DOE reserves the right to cancel this prize program at any time prior to the completion of materials' testing by the independent third party laboratory.

For more information about the DOE Hydrogen Program and related on-board hydrogen storage activities visit the Program's Web site at http://www.hydrogen.energy.gov and http://www.eere.energy.gov/hydrogenandfuelcells.

Issued in Golden, CO, on August 18, 2009.
Carol Hellman,
Acting Procurement Director, Golden Field Office.

[FR Doc. E9-20552 Filed 8-25-09; 8:45 am]

BILLING CODE 6450-01-P